DEPARTMENT OF AGRICULTURE

Forest Service

Tuolumne County Resource Advisory Committee

AGENCY: Forest Service, USDA.

ACTION: Notice of meeting.

SUMMARY: The Tuolumne County Resource Advisory Committee will meet on June 19, 2006 at the City of Sonora Fire Department, in Sonora, California. The purpose of the meeting is to hear 17 presentations made by project proponents. The committee will also review requests for grant extensions and/or changing the focus of approved projects.

DATES: The meeting will be held June 19, 2006, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370 (209) 532-3671; E-mail pkaunert@fs.fed.us.

SUPPLEMENTARY INFORMATION: Agenda items to be covered include: (1) Presentation of primarily Forest Service project submittals by project proponents; (2) Consideration of requests for grant extensions and/or changing previously submitted projects; (3) Pulic comment on meeting proceedings. This meeting is open to the public.

Dated: June 9, 2006.
Tom Quinn,
Forest Supervisor.

[FR Doc. 06-5662 Filed 6-23-06; 8:45 am]

BILLING CODE 3410-ED-M